DEPARTMENT OF THE TREASURY

Internal Revenue Service

26 CFR Part 1

[REG-106384-20]

RIN 1545-BQ14

Mortality Tables for Determining Present Value Under Defined Benefit Pension Plans; Hearing Cancellation

AGENCY: Internal Revenue Service (IRS), Treasury.

ACTION: Cancellation of public hearing on proposed rulemaking.

SUMMARY: This document cancels a public hearing on proposed regulations prescribing mortality tables to be used for most defined benefit pension plans.

DATES: The public hearing, originally scheduled for Tuesday, June 28, 2022, at 10 a.m. is cancelled.

FOR FURTHER INFORMATION CONTACT: Regina Johnson of the Publications and Regulations Branch, Legal Processing Division, Associate Chief Counsel (Procedure and Administration) at (202) 317-5177 (not a toll-free number) or at publichearings@irs.gov.

SUPPLEMENTARY INFORMATION: A notice of proposed rulemaking and notice of public hearing that appeared in the Federal Register on Thursday, April 28, 2022 (87 FR 25161) announced that a public hearing to be held by teleconference was scheduled for Tuesday, June 28, 2022 at 10 a.m. The subject of the public hearing is under section 430 of the Internal Revenue Code.

The public comment period for these regulations expired on June 9, 2022. The notice of proposed rulemaking and notice of hearing instructed those interested in testifying at the public hearing to submit a request to speak and an outline of the topics to be discussed. Requests to speak and outlines were due on June 9, 2022. As of the end of the day on June 14, 2022, no one requested to speak. Therefore, the public hearing scheduled for June 28, 2022, at 10 a.m. is cancelled.

Oluwafunmilayo A. Taylor,
Branch Chief, Publications and Regulations Branch, Legal Processing Division, Associate Chief Counsel, (Procedure and Administration).

[FR Doc. 2022-13491 Filed 6-23-22; 8:45 am]

BILLING CODE 4830-01-P